DEPARTMENT OF TRANSPORTATION

Federal Aviation Administration

Clarification and Standardized Policy for Specific Sections of FAA Order 8150.1B, Technical Standard Order Program

AGENCY: Federal Aviation Administration (DOT).

ACTION: Notice of availability and requests for public comment.

SUMMARY: This notice announces the availability of and request comments on proposed policy clarification to three specific areas of FAA Order 8150.1B, Technical Standard Order Program. The proposed policy provides guidance to Federal Aviation Administration personnel, Technical Standard Order (TSO) authorization holders and those persons issued letters of TSO design approval, on how to manage incomplete systems, information and data needed when one source receives multiple articles, and general marking requirements.

DATES: Comments must be received on or before May 9, 2003.

ADDRESSES: Comments on the proposed policy may be mailed to: Federal Aviation Administration, Aircraft Certification Service, Room 815, 800 Independence Avenue, SW., Washington, DC 20591. ATTN: Mr. John Petrakis, AIR-120; deliver to: Federal Aviation Administration, Room 815, 800 Independence Avenue, SW., Washington, DC 20591; or e-mailed to: John.Petrakis@FAA.GOV.

FOR FURTHER INFORMATION CONTACT: Mr. John Petrakis, Federal Aviation Administration, Aircraft Certification Service, Aircraft Engineering Division, Technical Programs Branch, AIR-120, Room 815, 800 Independence Avenue, SW., Washington, DC 20591, Telephone (202) 267-9274.

SUPPLEMENTARY INFORMATION:

Comments Invited

Interested persons are invited to comment on the proposed policy listed in this notice by submitting such written data, views, or arguments as they desire to the above specified address. Comments received on the proposed policy may be examined, before and after the comment closing date, in Room 815, FAA Headquarters Building (FOB-10A), 800 Independence Avenue, SW., Washington, DC 20591, weekdays except Federal holidays, between 8:30 a.m. and 4:30 p.m. All communications received on or before the closing date for the Director of the Aircraft Certification Service will consider comments specified above before issuing the final policy.

Background

This policy memorandum addresses three specific areas of FAA Order 8150.1B, Technical Standard Order Program. Since the issuance of the order in May 2002, questions concerning (1) the management and marking requirements of incomplete systems, (2) clarification on data needed when multiple articles are shipped to one source, and (3) clarification of general TSO marking requirements.

The information derived from this notice will become effective via a signed memorandum, and will be incorporated into the next revision to FAA Order 8150.1B.

How To Obtain Copies

A copy of the proposed policy may be obtained via the Internet at, http://av-info.faa.gov/tso/Tsopro/Proposed.htm. You may also request a copy of the proposed policy memorandum from Mr. John Petrakis. See the section entitled FOR FURTHER INFORMATION CONTACT for the complete address.

Issued in Washington, DC on April 7, 2003.
David W. Hempe,
Manager, Aircraft Engineering Division, Aircraft Certification Service.

[FR Doc. 03-9076 Filed 4-14-03; 8:45 am]

BILLING CODE 4910-13-M